DEPARTMENT OF THE INTERIOR

National Park Service

[NPS-WASO-NAGPRA-NPS0035775; PPWOCRADN0-PCU00RP14.R50000]

Notice of Inventory Completion: Field Museum of Natural History, Chicago, IL

AGENCY: National Park Service, Interior.

ACTION: Notice.

SUMMARY: In accordance with the Native American Graves Protection and Repatriation Act (NAGPRA), the Field Museum of Natural History has completed an inventory of human remains and has determined that there is no cultural affiliation between the human remains and any Indian Tribe. The human remains were removed from Winnebago County, WI.

DATES: Disposition of the human remains in this notice may occur on or after June 5, 2023.

ADDRESSES: Helen Robbins, Repatriation Director, Field Museum of Natural History, 1400 S Lake Shore Drive, Chicago, IL 60605, telephone (312) 665-7317, email hrobbins@fieldmuseum.org.

SUPPLEMENTARY INFORMATION: This notice is published as part of the National Park Service's administrative responsibilities under NAGPRA. The determinations in this notice are the sole responsibility of the Field Museum. The National Park Service is not responsible for the determinations in this notice. Additional information on the determinations in this notice, including the results of consultation, can be found in the inventory or related records held by the Field Museum.

Description

Human remains representing, at minimum, 21 individuals were removed from Winnebago County, WI. In September of 1897, Mr. A.E. Chase exhumed these human remains from Sunset Point, a site located on the north shore of Lake Butte des Morts. The human remains were purchased by the Field Museum in 1898. No associated funerary objects are present.

Based on research and tribal consultation, the site of disinterment belongs to the Oneota culture. It likely dates between 1000 CE and 1400 CE. A detailed assessment of the human remains was made by Field Museum staff in consultation with representatives of the Ho-Chunk Nation of Wisconsin, who have requested disposition of the human remains.

Aboriginal Land

The human remains in this notice were removed from a known geographic location. This location is the aboriginal lands of one or more Indian Tribes. The following information was used to identify the aboriginal land: a treaty and a final judgment of the Indian Claims Commission.

Determinations

Pursuant to NAGPRA and its implementing regulations, and after consultation with the appropriate Indian Tribes, the Field Museum has determined that:

• The human remains described in this notice represent the physical remains of 21 individuals of Native American ancestry.

• No relationship of shared group identity can be reasonably traced between the human remains and any Indian Tribe.

• The human remains described in this notice were removed from the aboriginal land of the Ho-Chunk Nation of Wisconsin; Iowa Tribe of Kansas and Nebraska; Iowa Tribe of Oklahoma; Otoe-Missouria Tribe of Indians, Oklahoma; and the Winnebago Tribe of Nebraska.

Requests for Disposition

Written requests for disposition of the human remains in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains described in this notice to a requestor may occur on or after June 5, 2023. If competing requests for disposition are received, the Field Museum must determine the most appropriate requestor prior to disposition. Requests for joint disposition of the human remains are considered a single request and not competing requests. The Field Museum is responsible for sending a copy of this notice to the Indian Tribes identified in this notice.

Authority: Native American Graves Protection and Repatriation Act, 25 U.S.C. 3003, and the implementing regulations, 43 CFR 10.9 and 10.11.

Dated: April 25, 2023.
Melanie O'Brien,
Manager, National NAGPRA Program.

[FR Doc. 2023-09579 Filed 5-4-23; 8:45 am]

BILLING CODE 4312-52-P